CONSUMER PRODUCT SAFETY COMMISSION

Sunshine Act Meetings

FEDERAL REGISTER CITATION OF PREVIOUS ANNOUNCEMENT: Vol. 83, No. 197, Thursday, October 11, 2018, page 51450.

PREVIOUSLY ANNOUNCED TIME AND DATE OF THE MEETING: 10:00 a.m.-12:00 p.m., Wednesday, October 17, 2018.

CHANGES IN THE MEETING: Meeting postponed.

CONTACT PERSON FOR MORE INFORMATION: Rockelle Hammond, Office of the Secretariat, Office of the General Counsel, U.S. Consumer Product Safety Commission, 4330 East West Highway, Bethesda, MD 20814, (301) 504-6833.

Dated: October 15, 2018.
Alberta E. Mills,
Secretary.

[FR Doc. 2018-22731 Filed 10-15-18; 4:15 pm]

BILLING CODE 6355-01-P